DEPARTMENT OF AGRICULTURE

Natural Resources Conservation Service

Notice of Meeting of the Agricultural Air Quality Task Force

AGENCY: Natural Resources Conservation Service (NRCS), USDA.

ACTION: Notice of meeting.

SUMMARY: The Agricultural Air Quality Task Force (AAQTF) will meet to continue discussions on critical air quality issues in relation to agriculture. Special emphasis will be placed on obtaining a greater understanding about the relationship between agricultural production and air quality.

DATES: The meeting will convene on Thursday, September 22, 2005, from 8 a.m. to 5 p.m., and resume on Friday, September 23, 2005, from 8 a.m. to 4:30 p.m. Individuals with written materials, and those who have requests to make oral presentations, should contact NRCS, at the address below, on or before August 29, 2005.

ADDRESSES: The meeting will be held at the Holiday Inn Ithaca Downtown, 222 South Cayuga Street, Ithaca, New York 14850; telephone: (607) 272-1000. Written material and requests to make oral presentations should be sent to Dr. Diane Gelburd, Designated Federal Official, NRCS, Post Office Box 2890, Room 6158-S, Washington, DC 20013.

FOR FURTHER INFORMATION, CONTACT: Questions or comments should be directed to Dr. Diane Gelburd, Designated Federal Official; telephone: (202) 720-2587; fax: (202) 720-2646, or (202) 720-1814; e-mail: Diane.Gelburd@wdc.usda.gov.

SUPPLEMENTARY INFORMATION: Notice of this meeting is given under the Federal Advisory Committee Act, 5 U.S.C. App. 2. Additional information concerning AAQTF may be found on the World Wide Web at http://aaqtf.tamu.edu/.

Draft Agenda of the September 22-23, 2005, Meeting of the AAQTF:

A. Welcome to Ithaca, New York

Local and NRCS officials

B. Discussion and Approval of Minutes from Previous Meeting

C. Federal Agency and Other Update Reports

D. Subcommittee Presentations

1. Emerging Issues Committee Report

2. Research Committee Report

3. Policy Committee Report

4. Education/Technology Transfer Committee Report

E. Local Research Presentations

I. Next Meeting, Time and Place

J. Public Input

(Time will be reserved in the morning and afternoon of each daily session to receive public comment. Individual presentations will be limited to 5 minutes.)

Procedural:

This meeting is open to the public. At the discretion of the Chair, members of the public may give oral presentations during the meeting. Oral comments must be germane to the meeting agenda and committee discussions. Those persons wishing to make oral presentations should contact Dr. Gelburd no later than August 29, 2005. A person submitting written material that would like a copy distributed to each member in advance of the meeting should submit 50 copies to Dr. Gelburd no later than August 29, 2005.

Information on Services for Individuals with Disabilities:

For information on facilities or services for individuals with disabilities, or to request special assistance at the meeting, please contact Dr. Gelburd. The Department of Agriculture (USDA) prohibits discrimination in its programs and activities on the basis of race, color, national origin, gender, religion, age, sexual orientation, or disability. Discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). USDA is an equal opportunity provider and employer.

Signed in Washington, DC on July 27, 2005.
Bruce I. Knight,
Chief.

[FR Doc. 05-15634 Filed 8-5-05; 8:45 am]

BILLING CODE 3410-16-P